DEPARTMENT OF STATE

[Public Notice 3338]

Passport Services, Office of Field Operations, Field Coordination Division; Proposed Information Collection

AGENCY: Department of State

ACTION: 60-Day Notice of Proposed Information Collection; Statement of Nonreceipt of Passport, DSP-86.

SUMMARY: The Department of State is seeking Office of Management and Budget (OMB) approval for the information collection described below. The purpose of this notice is to allow 60 days for public comment in the Federal Register preceding submission to OMB. This process is conducted in accordance with the Paperwork Reduction Act of 1995.

The following summarizes the information collection proposal submitted to OMB:

Type of Request: Reinstatement.

Originating Office: Bureau of Consular Affairs, CA/PPT/FO/FC.

Title of Information Collection: Statement of Nonreceipt of Passport.

Frequency: On occasion.

Form Number: DSP-86.

Respondents: Customers who have not received the passports for which they originally applied.

Estimated Number of Respondents: 18,000/year.

Average Hours Per Response: 5 minutes (1/12hr).

Total Estimated Burden: 1,500 hours/year.

Public comments are being solicited to permit the agency to:

• Evaluate whether the proposed information collection is necessary for the proper performance of the functions of the agency.

• Evaluate the accuracy of the agency's estimate of the burden of the proposed collection, including the validity of the methodology and assumptions used.

• Enhance the quality, utility, and clarity of the information to be collected.

• Minimize the reporting burden on those who are to respond, including through the use of automated collection techniques or other forms of technology.

FOR ADDITIONAL INFORMATION: Public comments, or requests for additional information, regarding the collection listed in this notice should be directed to R. Michael Holly, U.S. Department Of State, Bureau of Consular Affairs, SA-1, Room H904, 2401 E. Street, NW Washington, DC. 20522-0111. 202-663-2460.

Dated: May 18, 2000.
George C. Lannon,
Deputy Assistant Secretary for Passport Services, U.S. Department of State.

[FR Doc. 00-15650 Filed 6-20-00; 8:45 am]

BILLING CODE 4710-06-P